DEPARTMENT OF COMMERCE

International Trade Administration

(C-351-829)

Continuation of Countervailing Duty Order; Certain Hot-Rolled Flat-Rolled Carbon-Quality Steel Products From Brazil

AGENCY: Import Administration, International Trade Administration, Department of Commerce.

SUMMARY: As a result of the determinations by the Department of Commerce (“the Department”) and the International Trade Commission (“ITC”) that revocation of the countervailing duty order on certain hot-rolled flat-rolled carbon-quality steel products from Brazil, would likely lead to continuation or recurrence of countervailable subsidies, and material injury to an industry in the United States, the Department is publishing notice of the continuation of this countervailing duty order.

EFFECTIVE DATE: May 12, 2005.

CONTACT INFORMATION: Martha V. Douthit, Office of Policy, Import Administration, International Trade Administration, U.S. Department of Commerce, 14th Street and Constitution Ave., NW, Washington, DC 20230; telephone: (202) 482-5050.

SUPPLEMENTARY INFORMATION:

Background

On May 3, 2004, the Department initiated and the ITC instituted a sunset review of the countervailing duty order on certain hot-rolled flat-rolled carbon-quality steel products from Brazil, pursuant to section 751(c) of the Tariff Act of 1930, as amended (“the Act”).¹ As a result of its review, the Department found that revocation of the countervailing duty order would likely lead to continuation or recurrence of subsidies and notified the ITC of the net countervailing subsidy rate likely to prevail were the order to be revoked.²

¹ See Initiation of Five-year (“Sunset”) Reviews, 69 FR 24118 (May 3, 2004) and ITC's Investigation Nos. 701-TA-384 and 731-TA-806-808 (Review), 69 FR 24189 (May 3, 2004).

² See Certain Hot-Rolled Flat-Rolled Carbon-Quality Steel From Brazil; Final Results of the Expedited Sunset Review of the Countervailing Duty Order, 69 FR 70655 (December 7, 2004).

On May 5, 2005, the ITC determined pursuant to section 751(c) of the Act, that revocation of the countervailing duty order on certain hot-rolled flat-rolled carbon-quality steel products from Brazil would likely lead to continuation or recurrence of material injury to an industry in the United States within a reasonably foreseeable time.³

³ See Investigation Nos. 701-TA-384 and 731-TA-806-808 (Review), 70 FR 23886 (May 5, 2005).

Scope of the Order

See Appendix 1

Determination

As a result of the determinations by the Department and the ITC that revocation of this countervailing duty order would likely lead to continuation or recurrence of subsidies and material injury to an industry in the United States, pursuant to section 751(d)(2) of the Act, the Department hereby orders the continuation of the countervailing duty order on certain hot-rolled flat-rolled carbon-quality steel products from Brazil.

As provided in 19 CFR 351.218(f)(4), the Department normally will issue its determination to continue an order not later than seven days after the date of publication in the Federal Register of the ITC's determination concluding the sunset review and, immediately thereafter, will publish notice of its determination in the Federal Register. In the instant case, however, the Department's publication of the Notice of Continuation was delayed. The Department has explicitly indicated that the effective date of continuation of this order is May 12, 2005, seven days after the date of publication in the Federal Register of the ITC's determination. As a result, pursuant to sections 751(c)(2) and 751(c)(6)(A) of the Act, the Department intends to initiate the next five-year review of this order not later than April 2010.

This five-year (sunset) review and notice are in accordance with section 751(c) of the Act and 19 CR 351.218 (f)(4).

Dated: May 20, 2005.
Joseph A. Spetrini,
Acting Assistant Secretary for Import Administration.

APPENDIX 1

Scope of the Order: Brazil (C-351-829)

The products covered under the countervailing duty order are certain hot-rolled flat-rolled carbon-quality steel products, meeting the physical parameters described below, regardless of application.

The hot-rolled flat-rolled carbon-quality steel products subject to this order are of a rectangular shape, of a width of 0.5 inch of greater, neither clad, plated, nor coated with metal and whether or not painted, varnished, or coated with plastics of other non-metallic substances, in coils (whether or not in successively superimposed layers) regardless of thickness, and in straight lengths, of a thickness less than 4.75 mm and of a width measuring at least 10 times the thickness. Specifically included in this scope are vacuum degassed, fully stabilized (IF) steels, high strength low alloy (HSLA) steels, and the substrate for motor lamination steels. Steel products to be included in the scope of this order, regardless of Harmonized Tariff Schedule of the United States (“HTSUS”) definitions, are products in which: (1) iron predominates, by weight, over each of the other contained elements; (2) the carbon content is 2 percent of less, by weight; and (3) none of the elements listed below exceeds certain specified quantities.

The merchandise subject to the order is currently classifiable under subheadings 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7210.70.30.00, 7210.90.90.00, 7211.14.00.30, 7211.14.00.90, 7211.19.15.00, 7211.19.20.00, 7211.19.30.00, 7211.19.45.00, 7211.19.60.00, 7211.19.75.30, 7211.19.75.60, 7211.19.75.90, 7212.40.10.00, 7212.40.50.00, and 7212.50.00.00 of the HTSUS. Certain hot-rolled flat-rolled carbon-quality steel covered by this order, including vacuum degassed and fully stabilized, high strength low alloy, and the substrate for motor lamination steel may also enter under tariff numbers 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Although the HTSUS subheadings are provided for convenience and customs purposes, the written description of the scope of the order is dispositive.

[FR Doc. E5-2680 Filed 5-25-05; 8:45 am]

BILLING CODE 3510-DS-S